DEPARTMENT OF ENERGY

Federal Energy Regulatory Commission

[Docket No. CP02-1-001]

Southern Natural Gas Company; Notice of Amendment

May 3, 2002.

Take notice that on April 29, 2002, Southern Natural Gas Company (Southern), Post Office Box 2563, Birmingham, Alabama 35202-2563, filed in Docket No. CP02-1-001, an amendment to its application for abandonment authorization and for a certificate of public convenience and necessity filed on October 1, 2001 in Docket No. CP02-1-000 to modify certain of the pipeline, compression, measurement, interconnection and appurtenant facilities proposed therein, all as more fully set forth in the application which is on file with the Commission and open to public inspection. Copies of this filing are on file with the Commission and are available for public inspection. This filing may also be viewed on the web at http://www.ferc.gov using the “RIMS” link, select “Docket #” and follow the instructions (call 202-208-2222 for assistance).

Southern states that two of the shippers, Calpine Energy Services, L.P. and SCANA Resources, Inc., participating in the South System Expansion II Project have advised Southern that because of changes in project schedules these shippers will not need their transportation services on the dates indicated in the application. Southern states that it has agreed to assist these shippers in coordinating the availability of Transportation Demands with their revised project schedules and is proposing to reduce the size of the expansion project as well as rescheduling the construction of certain segments of the expansion project. To reflect the reduction in the quantity of firm transportation services to be included in the expansion project from 359,891 Mcf per day to 329,891 Mcf per day, Southern states that it has reduced the miles of pipeline loop as proposed in its application by 9.1 miles and the amount of compression horsepower by 12,270 horsepower.

Southern further states that it is proposing two other changes to certain of the compression and measurement facilities that are unrelated to the above changes in the shippers' project schedules. Southern states that the proposed expansion of its pipeline system will now consist of 114.2 miles of pipeline loop, 64,660 horsepower of compression, the rescheduling and rerating of certain existing compression units, the resizing of the cylinders on certain existing compression units, and the installation of certain interconnection and measurement facilities. Southern states that there are no changes to the compressor units it is proposing to abandon and that the proposed in-service dates for Phase 1 and Phase 2 remain the same, June 1, 2003 and May 1, 2004 respectively. Finally, Southern states that the total cost of the revised facilities is estimated to be $229.1 million, which is $16.4 million less than the estimated cost of the project as originally filed.

Any questions concerning this application may be directed to R. David Hendrickson, Associate General Counsel, Southern Natural Gas Company, Post Office Box 2563, Birmingham, Alabama 35202-2563, at (205) 325-7114 or fax (205) 327-2253.

There are two ways to become involved in the Commission's review of this project. First, any person wishing to obtain legal status by becoming a party to the proceedings for this project should, on or before May 24, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-11582 Filed 5-8-02; 8:45 am]

BILLING CODE 6717-01-P